NUCLEAR REGULATORY COMMISSION

[NRC-2022-0126]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from April 29, 2022, to May 25, 2022. The last monthly notice was published on May 17, 2022.

DATES: Comments must be filed by July 14, 2022. A request for a hearing or petitions for leave to intervene must be filed by August 15, 2022.

ADDRESSES: You may submit comments by any of the following methods; however, the NRC encourages electronic comment submission through the Federal rulemaking website:

• Federal rulemaking website: Go to https://www.regulations.gov and search for Docket ID NRC-2022-0126. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001, telephone: 301-415-2242, email: Paula.Blechman@nrc.gov.

SUPPLEMENTARY INFORMATION:

I. Obtaining Information and Submitting Comments

A. Obtaining Information

Please refer to Docket ID NRC-2022-0126, facility name, unit number(s), docket number(s), application date, and subject when contacting the NRC about the availability of information for this action. You may obtain publicly available information related to this action by any of the following methods:

• Federal Rulemaking Website: Go to https://www.regulations.gov and search for Docket ID NRC-2022-0126.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2022-0126, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with section 50.91 of title 10 of the Code of Federal Regulations (10 CFR), are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr. If a petition is filed, the Commission or a presiding officer will rule on the petition and, if appropriate, a notice of a hearing will be issued.

As required by 10 CFR 2.309(d) the petition should specifically explain the reasons why intervention should be permitted with particular reference to the following general requirements for standing: (1) the name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the Guidance for Electronic Submissions to the NRC (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9:00 a.m. and 6:00 p.m., ET, Monday through Friday, excluding Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Arizona Public Service Company, et al.; Palo Verde Nuclear Generating Station, Units 1, 2, and 3; Maricopa County, AZ
Docket No(s) | 50-528, 50-529, 50-530.
Application date | April 26, 2022.
ADAMS Accession No | ML22116A220.
Location in Application of NSHC | Pages 3-4 of the Enclosure.
Brief Description of Amendment(s) | The proposed amendments would revise Technical Specifications (TSs) to adopt Technical Specifications Task Force (TSTF) Traveler TSTF-487-A, Revision 1, “Relocate DNB [Departure from Nucleate Boiling] Parameters to the COLR [Core Operating Limits Report],” for Palo Verde Nuclear Generating Station, Units 1, 2, and 3. Specifically, the proposed amendment would revise the following: delete reference to Limiting Condition for Operation (LCO) 3.4.1.b in TS 3.1.11, “Special Test Exceptions (STE)—Reactivity Coefficient Testing,” LCO 3.1.11; remove the specific limits specified in TS 3.4.1, “RCS [Reactor Coolant System] Pressure, Temperature, and Flow Departure from Nucleate Boiling (DNB) Limits,” LCO 3.4.1, and to state that the limits are specified in the COLR; revise surveillance requirements in TS 3.4.1 to remove the specific limits and to state that the limits are specified in the COLR; delete figure 3.4.1-1, “Reactor Coolant Cold Leg Temperature vs. [versus] Core Power Level”; modify TS 5.6.5, “Core Operating Limits Report (COLR),” paragraph “a” to add the methodology requirements for calculating the DNB numeric limits in the COLR; and modify TS 5.6.5, paragraph “c,” to clarify that the COLR limits must be determined assuming that the plant is capable of operating at the rated thermal power as specified in TS Section 1.1, “Definitions.” The availability of this TS improvement was announced in the Federal Register (FR) on June 5, 2007 (72 FR 31108) as part of the consolidated line item improvement process.
Proposed Determination | NSHC.
Name of Attorney for Licensee, Mailing Address | Carey Fleming, Senior Counsel, Pinnacle West Capital Corporation, 500 N 5th Street, MS 8695, Phoenix, AZ 85004.
NRC Project Manager, Telephone Number | Siva Lingam, 301-415-1564.
Constellation Energy Generation, LLC; Braidwood Station, Units 1 and 2, Will County, IL; Byron Station, Unit Nos. 1 and 2, Ogle County, IL
Docket No(s) | 50-454, 50-455, 50-456, 50-457.
Application date | April 21, 2022.
ADAMS Accession No | ML22111A300.
Location in Application of NSHC | Pages 3 and 4 of Attachment 1.
Brief Description of Amendment(s) | The proposed amendments would revise the license and Technical Specification (TS) 3.8.3, “Diesel Fuel Oil,” to adopt Technical Specifications Task Force (TSTF) Traveler TSTF-501, Revision 1, “Relocate Stored Fuel Oil and Lube Oil Volume Values to Licensee Control.” Specifically, the proposed amendments would relocate the current stored diesel fuel oil numerical volume requirements from the TSs to the TS Bases.
Proposed Determination | NSHC.
Name of Attorney for Licensee, Mailing Address | Jason Zorn, Associate General Counsel, Constellation Energy Generation, 101 Constitution Ave. NW, Washington, DC 20001.
NRC Project Manager, Telephone Number | Joel Wiebe, 301-415-6606.
Constellation Energy Generation, LLC; Limerick Generating Station, Units 1 and 2; Montgomery County, PA
Docket No(s) | 50-352, 50-353.
Application date | February 24, 2022.
ADAMS Accession No | ML22055A600.
Location in Application of NSHC | Pages 5-7 of Attachment 1.
Brief Description of Amendment(s) | The proposed amendments would change Technical Specification Table 3.3.2-1, “Isolation Actuation Instrumentation,” Trip Function 1.g for Main Steam Line Isolation. In particular, the proposed change would increase the minimum operable channels per trip system for the “Turbine Enclosure—Main Steam Line Tunnel Temperature—High” trip function from 14 channels per trip system to 16 channels per trip system. This change would correct an administrative error.
Proposed Determination | NSHC.
Name of Attorney for Licensee, Mailing Address | Jason Zorn, Associate General Counsel, Constellation Energy Generation, 101 Constitution Ave. NW, Washington, DC 20001.
NRC Project Manager, Telephone Number | V. Sreenivas, 301-415-2597.
Constellation Energy Generation, LLC; Limerick Generating Station, Units 1 and 2; Montgomery County, PA
Docket No(s) | 50-352, 50-353.
Application date | February 24, 2022.
ADAMS Accession No | ML22055A601.
Location in Application of NSHC | Pages 8-9 of Attachment 1.
Brief Description of Amendment(s) | The proposed amendments would change Technical Specification (TS) 3.3.7.4, “Remote Shutdown System Instrumentation and Controls.” This would increase the allowed outage time for inoperable remote shutdown system components to a time that is more consistent with their safety significance. This change would also delete Table 3.3.7.4-1, “Remote Shutdown System Instrumentation and Controls,” to be relocated to the Technical Requirements Manual. The proposed changes would make the Limerick Technical System requirements consistent with NUREG-1433, “Standard Technical Specifications, General Electric BWR [Boiling Water Reactor]/4 Plants,” TS 3.3.3.2, “Remote Shutdown System.”
Proposed Determination | NSHC.
Name of Attorney for Licensee, Mailing Address | Jason Zorn, Associate General Counsel, Constellation Energy Generation, 101 Constitution Ave. NW, Washington, DC 20001.
NRC Project Manager, Telephone Number | V. Sreenivas, 301-415-2597.
Dominion Energy South Carolina, Inc.; Virgil C. Summer Nuclear Station, Unit 1, Fairfield County, SC
Docket No(s) | 50-395.
Application date | April 22, 2022.
ADAMS Accession No | ML22115A060.
Location in Application of NSHC | Pages 3-5 of Attachment 1.
Brief Description of Amendment(s) | The proposed amendment would modify the technical specifications (TSs) consistent with Technical Specifications Task Force (TSTF)-491 by removing the specific closure times for the main steam and main feedwater isolation valves from the associated TS surveillance requirements.
Proposed Determination | NSHC.
Name of Attorney for Licensee, Mailing Address | W.S. Blair, Senior Counsel, Dominion Resource Services, Inc., 120 Tredegar St., RS-2, Richmond, VA 23219.
NRC Project Manager, Telephone Number | G. Ed Miller, 301-415-2481.
Dominion Energy South Carolina, Inc.; Virgil C. Summer Nuclear Station, Unit 1, Fairfield County, SC
Docket No(s) | 50-395.
Application date | April 22, 2022.
ADAMS Accession No | ML22115A104.
Location in Application of NSHC | Pages 1-2 of Attachment 5.
Brief Description of Amendment(s) | The proposed amendment would modify Technical Specification 4.6.2.1.d to change the frequency at which each reactor building spray nozzle must be verified to be unobstructed.
Proposed Determination | NSHC.
Name of Attorney for Licensee, Mailing Address | W.S. Blair, Senior Counsel, Dominion Resource Services, Inc., 120 Tredegar St., RS-2, Richmond, VA 23219.
NRC Project Manager, Telephone Number | G. Ed Miller, 301-415-2481.
Energy Harbor Nuclear Corp. and Energy Harbor Nuclear Generation LLC; Beaver Valley Power Station, Units 1 and 2; Beaver County, PA
Docket No(s) | 50-334, 50-412.
Application date | March 30, 2022.
ADAMS Accession No | ML22090A093.
Location in Application of NSHC | Pages 4-6 of Attachment 1.
Brief Description of Amendment(s) | The proposed amendments would adopt Technical Specifications Task Force (TSTF) Traveler TSTF-501, Revision 1, “Relocate Stored Fuel Oil and Lube Oil Volume Values to Licensee Control,” with plant specific variations. The proposed changes would revise the technical specifications (TS) to replace the stored fuel oil and stored lube oil volume requirements (gallons) with time-based requirements (days or hours of supply). The proposed amendment would relocate the current volume requirements from the TS to a licensee-controlled document.
Proposed Determination | NSHC.
Name of Attorney for Licensee, Mailing Address | Rick Giannantonio, General Counsel, Energy Harbor Nuclear Corp. 168 E Market Street Akron, OH 44308-2014.
NRC Project Manager, Telephone Number | Brent Ballard, 301-415-0680.
Florida Power & Light Company; Turkey Point Nuclear Generating Unit Nos. 3 and 4; Miami-Dade County, FL
Docket No(s) | 50-250, 50-251.
Application date | September 22, 2021, as supplemented by letters dated January 19, 2022, and March 30, 2022.
ADAMS Accession No | ML21265A370 (Package), ML22019A067, ML22089A195 (Package).
Location in Application of NSHC | Pages 2 of 26 of Enclosure 2, Volume 2 of the supplement dated March 30, 2022.
Brief Description of Amendment(s) | The amendments would revise Technical Specifications to Improved Standard Technical Specifications, consistent with NUREG-1431, “Standard Technical Specifications—Westinghouse Plants,” Revision 5.
Proposed Determination | NSHC.
Name of Attorney for Licensee, Mailing Address | Debbie Hendell, Managing Attorney—Nuclear, Florida Power & Light Company, 700 Universe Blvd., MS LAW/JB, Juno Beach, FL 33408-0420.
NRC Project Manager, Telephone Number | Michael Mahoney, 301-415-3867.
Indiana Michigan Power Company; Donald C. Cook Nuclear Plant, Units 1 and 2; Berrien County, MI
Docket No(s) | 50-315, 50-316.
Application date | April 7, 2022.
ADAMS Accession No | ML22097A148.
Location in Application of NSHC | Pages 2-3 of Enclosure 2.
Brief Description of Amendment(s) | The proposed amendments would adopt Technical Specifications Task Force (TSTF) Traveler, TSTF-554, Revision 1, “Revise Reactor Coolant Leakage Requirements.”
Proposed Determination | NSHC.
Name of Attorney for Licensee, Mailing Address | Robert B. Haemer, Senior Nuclear Counsel, Indiana Michigan Power Company, One Cook Place, Bridgman, MI 49106.
NRC Project Manager, Telephone Number | Scott Wall, 301-415-2855.
R.E. Ginna Nuclear Power Plant, LLC and Constellation Energy Generation, LLC; R.E. Ginna Nuclear Power Plant; Wayne County, NY
Docket No(s) | 50-244.
Application date | February 21, 2022.
ADAMS Accession No | ML22052A013.
Location in Application of NSHC | Pages 6-8 of the Enclosure.
Brief Description of Amendment(s) | The proposed amendment would revise R.E. Ginna Nuclear Power Plant Technical Specification (TS) 3.1.8, “PHYSICS TESTS Exceptions—MODE 2,” to allow one power range neutron flux channel to be bypassed, rather than tripped (in accordance with TS 3.3.1 for an inoperable channel), when that channel is used during the performance of physics testing in MODE 2.
Proposed Determination | NSHC.
Name of Attorney for Licensee, Mailing Address | Jason Zorn, Associate General Counsel, Constellation Energy Generation, 101 Constitution Ave. NW, Washington, DC 20001.
NRC Project Manager, Telephone Number | V. Sreenivas, 301-415-2597
R.E. Ginna Nuclear Power Plant, LLC and Constellation Energy Generation, LLC; R.E. Ginna Nuclear Power Plant; Wayne County, NY
Docket No(s) | 50-244.
Application date | April 18, 2022.
ADAMS Accession No | ML22108A248.
Location in Application of NSHC | Pages 5-6 of Attachment 1.
Brief Description of Amendment(s) | This proposed amendment would revise technical specifications (TSs) for the auxiliary building ventilation system (ABVS) and ventilation filter testing program (VFTP). This change would remove testing requirements for the ABVS per TS Surveillance Requirement (SR) 3.7.10.3 and remove TS Section 5.5.10(c), Spent Fuel Pool (SFP) Charcoal Absorber System. In addition, the licensee proposed two administrative changes to TS 5.6.5 “CORE OPERATING LIMITS REPORT (COLR), to ensure TS 5.6.5a matches the current R.E. Ginna COLR, and to update TS 5.5.15 consistent with previously approved Amendment 136.
Proposed Determination | NSHC.
Name of Attorney for Licensee, Mailing Address | Jason Zorn, Associate General Counsel, Constellation Energy Generation, 101 Constitution Ave. NW, Washington, DC 20001.
NRC Project Manager, Telephone Number | V. Sreenivas, 301-415-2597.
Tennessee Valley Authority; Browns Ferry Nuclear Plant, Units 1, 2, and 3; Limestone County, AL
Docket No(s) | 50-259, 50-260, 50-296.
Application date | March 31, 2022.
ADAMS Accession No | ML22090A287.
Location in Application of NSHC | Pages A1-13 and A1-14 of Attachment 1.
Brief Description of Amendment(s) | The proposed amendments would modify the Browns Ferry Nuclear Plant, Units 1, 2, and 3 (Browns Ferry), technical specification (TS) requirements to permit the use of risk-informed completion times in accordance with Technical Specification Task Force (TSTF) Traveler TSTF-505-A, Revision 2, “Provide Risk-Informed Extended Completion Times—RITSTF [Risk-Informed TSTF] Initiative 4b.” The proposed amendments would also adopt TSTF-439-A, “Eliminate Second Completion Times Limiting Time From Discovery of Failure To Meet an [limiting condition for operation] LCO,” to delete all second Completion Times contained in the Browns Ferry TSs, and revise Completion Times Example 1.3-3 to eliminate the second Completion Times contained within and revise the discussion in the Example to state that alternating between Conditions in such a manner that operation could continue indefinitely without ever restoring systems to meet the LCO is inconsistent with the basis of the Completion Times and is inappropriate.
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.
Tennessee Valley Authority; Sequoyah Nuclear Plant, Units 1 and 2; Hamilton County, TN; Tennessee Valley Authority; Watts Bar Nuclear Plant, Units 1 and 2; Rhea County, TN
Docket No(s) | 50-327, 50-328, 50-390, 50-391.
Application date | April 4, 2022.
ADAMS Accession No | ML22095A023.
Location in Application of NSHC | Pages E4-E5 of the Enclosure.
Brief Description of Amendment(s) | The proposed amendments would revise the technical specifications (TSs) related to steam generator tube inspections and reporting requirements, consistent with Technical Specifications Task Force (TSTF) Traveler TSTF-577, Revision 1, “Revised Frequencies for Steam Generator Tube Inspections,” for the Sequoyah Nuclear Plant, Units 1 and 2, and Watts Bar Nuclear Plant, Units 1 and 2.
Proposed Determination | NSHC.
Name of Attorney for Licensee, Mailing Address | David Fountain, Executive VP and General Counsel, Tennessee Valley Authority, 400 West Summit Hill Drive, WT 6A, Knoxville, TN 37902
NRC Project Manager, Telephone Number | Kimberly Green, 301-415-1627.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Constellation Energy Generation, LLC; Braidwood Station, Units 1 and 2, Will County, IL; Byron Station, Unit Nos. 1 and 2, Ogle County, IL; Constellation Energy Generation, LLC; Clinton Power Station, Unit No. 1; DeWitt County, IL
Docket No(s) | 50-454, 50-455, 50-456, 50-457, 50-461.
Amendment Date | May 12, 2022.
ADAMS Accession No | ML22095A270.
Amendment No(s) | 227 (Braidwood Unit 1), 227 (Braidwood Unit 2), 229 (Byron Unit 1), 229 (Byron Unit 2), and 245 (Clinton).
Brief Description of Amendment(s) | The amendments revised technical specifications (TSs) to add explanatory text to the Safety Function Determination Program in TS 5.5.15 (Braidwood Station and Byron Station) and TS 5.5.10 (Clinton Power Station) clarifying the “appropriate limiting condition for operation for loss of function,” and that consideration does not have to be made for a loss of power in determining loss of function.
Public Comments Received as to Proposed NSHC (Yes/No) | No.
Constellation Energy Generation, LLC; Braidwood Station, Units 1 and 2; Will County, IL; Constellation Energy Generation, LLC; Byron Station, Unit Nos. 1 and 2, Ogle County, IL; Constellation Energy Generation, LLC; Calvert Cliffs Nuclear Power Plant, Unit Nos. 1 and 2; Calvert County, MD; Constellation Energy Generation, LLC, Clinton Power Station, Unit No. 1, DeWitt County, IL; Constellation Energy Generation, LLC; Dresden Nuclear Power Station, Units 2 and 3; Grundy County, IL; Constellation Energy Generation, LLC and Constellation FitzPatrick, LLC and Constellation Energy Generation, LLC; James A. FitzPatrick Nuclear Power Plant; Oswego County, NY; Constellation Energy Generation, LLC, LaSalle County Station, Units 1 and 2; LaSalle County, IL; Constellation Energy Generation, LLC; Limerick Generating Station, Units 1 and 2; Montgomery County, PA; Constellation Energy Generation, LLC; Nine Mile Point Nuclear Station, Units 1 and 2; Oswego County, NY; Constellation Energy Generation, LLC and PSEG Nuclear LLC; Peach Bottom Atomic Power Station, Units 2 and 3; York and Lancaster Counties, PA; Constellation Energy Generation, LLC; Quad Cities Nuclear Power Station, Units 1 and 2; Rock Island County, IL; Constellation Energy Generation, LLC; R.E. Ginna Nuclear Power Plant; Wayne County, NY
Docket No(s) | 50-456, 50-457, 50-454, 50-455, 50-317, 50-318, 50-461, 50-237, 50-249, 50-333, 50-373, 50-374, 50-352, 50-353, 50-410, 50-277, 50-278, 50-254, 50-265, 50-244.
Amendment Date | April 29, 2022.
ADAMS Accession No | ML22090A086.
Amendment No(s) | 226 (Braidwood Unit 1); 226 (Braidwood, Unit 2); 228 (Byron Unit 1); 228 (Byron Unit 2); 344 (Calvert Cliffs Unit 1); 322 (Calvert Cliffs Unit 2); 244 (Clinton); 278 (Dresden Unit 2); 271 (Dresden Unit 3); 349 (FitzPatrick), 256 (LaSalle Unit 1); 242 (LaSalle Unit 2); 257 (Limerick Unit 1); 219 (Limerick Unit 2); 191 (Nine Mile Point Unit 2); 342 (Peach Bottom Unit 2); 345 (Peach Bottom Unit 3); 290 (Quad Cities Unit 1); 286 (Quad Cities Unit 2); and 149 (Ginna).
Brief Description of Amendment(s) | The amendments revised the technical specifications (TSs) for each facility based on Technical Specifications Task Force (TSTF) Traveler TSTF-541, Revision 2, “Add Exceptions to Surveillance Requirements for Valves and Dampers Locked in the Actuated Position” (ML19240A315). The amendments also made similar changes to surveillance requirements not included in TSTF-541, Revision 2, and editorial changes to the TSs.
Public Comments Received as to Proposed NSHC (Yes/No) | No.
Exelon FitzPatrick, LLC and Exelon Generation Company, LLC; James A. FitzPatrick Nuclear Power Plant; Oswego County, NY
Docket No(s) | 50-333.
Amendment Date | November 4, 2021.
ADAMS Accession No | ML21181A057.
Amendment No(s) | 344.
Brief Description of Amendment(s) | The amendment revised the technical specifications (TSs) to adopt Technical Specifications Task Force (TSTF) Traveler TSTF-545, Revision 3, “TS Inservice Testing Program Removal & Clarify SR [Surveillance Requirement] Usage Rule Application to Section 5.5 Testing.” Specifically, the amendment removed TS 5.5.7, “Inservice Testing Program,” and added a new defined term, “INSERVICE TESTING PROGRAM,” to TS 1.1, “Definitions” and made corresponding edits throughout the TSs.
Public Comments Received as to Proposed NSHC (Yes/No) | No.
Exelon FitzPatrick, LLC and Exelon Generation Company, LLC; James A. FitzPatrick Nuclear Power Plant; Oswego County, NY
Docket No(s) | 50-333.
Amendment Date | November 16, 2021.
ADAMS Accession No | ML21300A355.
Amendment No(s) | 345.
Brief Description of Amendment(s) | The amendment revised the technical specifications related to reactor pressure vessel (RPV) water inventory control (WIC) based on Technical Specifications Task Force (TSTF)-582, Revision 0, “RPV WIC Enhancements” (ML19240A260), and the associated NRC staff safety evaluation of TSTF-582 (ML20219A333). The amendment also included other administrative changes to the technical specifications.
Public Comments Received as to Proposed NSHC (Yes/No) | No.
Constellation FitzPatrick, LLC and Constellation Energy Generation, LLC; James A. FitzPatrick Nuclear Power Plant; Oswego County, NY
Docket No(s) | 50-333.
Amendment Date | February 28, 2022.
ADAMS Accession No | ML21364A043.
Amendment No(s) | 348.
Brief Description of Amendment(s) | The amendment revised Technical Specification Limited Condition for Operation 3.5.1 “ECCS [Emergency Core Cooling System]—Operating,” Surveillance Requirement 3.5.1.6 from “Once each startup prior to exceeding 25% RTP [rated thermal power],” as modified by a Note stating, “Not required to be performed if performed within the previous 31 days” to 24 months.
Public Comments Received as to Proposed NSHC (Yes/No) | No.
Duke Energy Progress, LLC; Brunswick Steam Electric Plant, Units 1 and 2; Brunswick County, NC
Docket No(s) | 50-325, 50-324.
Amendment Date | May 12, 2022.
ADAMS Accession No | ML22028A174.
Amendment No(s) | 309 (Unit 1) and 337 (Unit 2).
Brief Description of Amendment(s) | The amendments revised the technical specifications (TS) to provide an exception to entering Mode 4 if both required residual heat removal (RHR) shutdown cooling subsystems are inoperable based on TS Task Force (TSTF) Traveler TSTF-580, Revision 1, “Provide Exception from Entering Mode 4 With No Operable RHR Shutdown Cooling” (ML21025A232), and the associated NRC safety evaluation for TSTF-580, Revision 1 (ML21188A227).
Public Comments Received as to Proposed NSHC (Yes/No) | No.
Duke Energy Progress, LLC; Brunswick Steam Electric Plant, Units 1 and 2; Brunswick County, NC
Docket No(s) | 50-325, 50-324.
Amendment Date | May 2, 2022.
ADAMS Accession No | ML22082A268.
Amendment No(s) | 308 (Unit 1); 336 (Unit 2).
Brief Description of Amendment(s) | The amendments modified technical specification requirements to permit the use of risk-informed completion times in accordance with Technical Specifications Task Force (TSTF) Traveler TSTF-505, Revision 2, “Risk-Informed Extended Completion Times—RITSTF [Risk-Informed TSTF] Initiative 4b.”
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | May 6, 2022.
ADAMS Accession No | ML21286A782.
Amendment No(s) | 315 (Unit 1) and 205 (Unit 2).
Brief Description of Amendment(s) | The amendment changed the Beaver Valley Power Station, Unit 1 and Unit 2 Emergency Preparedness Plan to reduce the number of on-shift staff positions, extend augmented emergency response organization response times, and re-align augmented emergency response organization response positions.
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | May 2, 2022.
ADAMS Accession No | ML22077A134.
Amendment No(s) | 314 (Unit 1) and 204 (Unit 2).
Brief Description of Amendment(s) | The amendments adopted Technical Specification Task Force (TSTF) Traveler TSTF-577, Revision 1, “Revised Frequencies for Steam Generator Tube Inspections.” The technical specifications related to steam generator tube inspections and reporting are revised based on operating history.
Public Comments Received as to Proposed NSHC (Yes/No) | No.
Energy Harbor Nuclear Corp. and Energy Harbor Nuclear Generation LLC; Beaver Valley Power Station, Units 1 and 2; Beaver County, PA
Docket No(s) | 50-334, 50-412.
Amendment Date | May 10, 2022.
ADAMS Accession No | ML22095A235.
Amendment No(s) | 316 (Unit 1) and 206 (Unit 2).
Brief Description of Amendment(s) | The amendments revised Technical Specification 5.6.3, “Core Operating Limits Report (COLR),” to allow the use of feedwater venturis that have been normalized to prior leading edge flow meter measurements when calculating reactor thermal power.
Public Comments Received as to Proposed NSHC (Yes/No) | No.
Energy Northwest; Columbia Generating Station; Benton County, WA
Docket No(s) | 50-397.
Amendment Date | May 9, 2022.
ADAMS Accession No | ML22098A064.
Amendment No(s) | 267.
Brief Description of Amendment(s) | The amendment revised the average power range monitor (APRM) requirements in the technical specifications (TSs) for Columbia Generating Station. Specifically, the amendment altered Surveillance Requirement 3.3.1.1.2 of TS 3.3.1.1, “Reactor Protection System (RPS) Instrumentation,” to verify that calculated (i.e., calorimetric heat balance) power is no more than 2 percent greater than the APRM channel output. This included a variation to allow for a 2-hour period for adjustment of the APRM output gain to restore compliance with the surveillance requirement limit before entering the associated conditions and required actions.
Public Comments Received as to Proposed NSHC (Yes/No) | No.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS; Entergy Operations, Inc.; Arkansas Nuclear One, Units 1 and 2; Pope County, AR; Entergy Operations, Inc.; Waterford Steam Electric Station, Unit 3; St. Charles Parish, LA
Docket No(s) | 50-313, 50-368, 50-416, 50-458, 50-382.
Amendment Date | May 12, 2022.
ADAMS Accession No | ML22104A222.
Amendment No(s) | 276 (ANO-1), 330 (ANO-2), 231 (Grand Gulf), 210 (River Bend), and 265 (Waterford-3).
Brief Description of Amendment(s) | The amendments revised Technical Specifications (TSs) to adopt Technical Specifications Task Force (TSTF) Traveler TSTF-554, “Revise Reactor Coolant Leakage Requirements,” for Arkansas Nuclear One, Units 1 and 2 (ANO-1 and ANO-2); Grand Gulf Nuclear Station, Unit 1 (Grand Gulf); River Bend Station, Unit 1 (River Bend); and Waterford Steam Electric Station, Unit 3 (Waterford-3). The proposed amendments revised the TS definitions related to leakage and the reactor coolant system operational leakage TS, for each facility, to clarify the requirements.
Public Comments Received as to Proposed NSHC (Yes/No) | No.
Entergy Nuclear Operations, Inc.; Palisades Nuclear Plant; Van Buren County, MI
Docket No(s) | 50-255.
Amendment Date | May 13, 2022.
ADAMS Accession No | ML22039A198.
Amendment No(s) | 272.
Brief Description of Amendment(s) | The amendment revised the Palisades Nuclear Plant Renewed Facility Operating License and the associated technical specifications (TSs) to permanently defueled TSs consistent with the permanent cessation of operations and permanent removal of fuel from the reactor vessel.
Public Comments Received as to Proposed NSHC (Yes/No) | No.
Entergy Operations, Inc.; Waterford Steam Electric Station, Unit 3; St. Charles Parish, LA
Docket No(s) | 50-382.
Amendment Date | April 29, 2022.
ADAMS Accession No | ML22075A102.
Amendment No(s) | 264.
Brief Description of Amendment(s) | The amendment relocated Waterford Steam Electric Station, Unit 3 Technical Specifications 3.3.3.7.1 and 3.3.3.7.3, “Chemical Detection Systems” and an associated Surveillance Requirement 4.7.6.1.d.4 to the licensee-controlled Technical Requirements Manual.
Public Comments Received as to Proposed NSHC (Yes/No) | No.
Indiana Michigan Power Company; Donald C. Cook Nuclear Plant, Units 1 and 2; Berrien County, MI
Docket No(s) | 50-315, 50-316.
Amendment Date | May 2, 2022.
ADAMS Accession No | ML22102A012.
Amendment No(s) | 359 (Unit 1) and 340 (Unit 2).
Brief Description of Amendment(s) | The amendments revised the technical specifications to adopt Technical Specifications Task Force (TSTF) Traveler, TSTF-577, Revision 1, “Revised Frequencies for Steam Generator Tube Inspections.”
Public Comments Received as to Proposed NSHC (Yes/No) | No.
NextEra Energy Duane Arnold, LLC; Duane Arnold Energy Center; Linn County, IA
Docket No(s) | 50-331.
Amendment Date | April 25, 2022.
ADAMS Accession No | ML22066A763.
Amendment No(s) | 318.
Brief Description of Amendment(s) | The amendment revised the Duane Arnold Emergency Plan to reflect the requirements associated with emergency preparedness necessary for the independent spent fuel storage installation (ISFSI)-only configuration, consistent with the permanent removal of all spent fuel from the spent fuel pool, an action that Duane Arnold completed on April 10, 2022.
Public Comments Received as to Proposed NSHC (Yes/No) | No.
Southern Nuclear Operating Company, Inc.; Edwin I Hatch Nuclear Plant, Units 1 and 2; Appling County, GA
Docket No(s) | 50-321, 50-366.
Amendment Date | May 20, 2022.
ADAMS Accession No | ML22101A094.
Amendment No(s) | 315 (Unit 1) and 260 (Unit 2).
Brief Description of Amendment(s) | The amendments revised Edwin I. Hatch Nuclear Plant, Units 1 and 2, Technical Specification (TS) 3.3.6.1, “Primary Containment Isolation Instrumentation,” Table 3.3.6.1-1, to eliminate the requirement for automatic main steam line isolation on high turbine building area temperature (Function 1.f). In lieu of automatic isolation, a new technical specification, TS 3.7.10, “Turbine Building (TB) Maximum Area Temperature,” is added that requires monitoring the turbine building maximum area temperature and a plant shut down if excessive main steam line leakage is detected.
Public Comments Received as to Proposed NSHC (Yes/No) | No.
Tennessee Valley Authority; Watts Bar Nuclear Plant, Units 1 and 2; Rhea County, TN
Docket No(s) | 50-390, 50-391.
Amendment Date | May 4, 2022.
ADAMS Accession No | ML22014A206.
Amendment No(s) | 152 (Unit 1) and 61 (Unit 2).
Brief Description of Amendment(s) | The amendments revised the Watts Bar Nuclear Plant, Units 1 and 2, Technical Specification (TS) 3.3.6, “Containment Vent Isolation Instrumentation,” and TS 3.3.7, “Control Room Emergency Ventilation System (CREVS) Actuation Instrumentation,” to delete a redundant unit of measure associated with the trip setpoint for containment purge exhaust and control room air intake radiation monitors. The amendments also corrected a typographical error in abbreviation of the associated unit of measure.
Public Comments Received as to Proposed NSHC (Yes/No) | No.
Wolf Creek Nuclear Operating Corporation; Wolf Creek Generating Station, Unit 1; Coffey County, KS
Docket No(s) | 50-482.
Amendment Date | May 18, 2022.
ADAMS Accession No | ML22069A056.
Amendment No(s) | 232.
Brief Description of Amendment(s) | The amendment revised the Wolf Creek Radiological Emergency Response Plan to change the on-shift staffing composition.
Public Comments Received as to Proposed NSHC (Yes/No) | No.

Dated: June 6, 2022.
For the Nuclear Regulatory Commission.
Bo M. Pham,
Director, Division of Operating Reactor Licensing, Office of Nuclear Reactor Regulation.

[FR Doc. 2022-12421 Filed 6-13-22; 8:45 am]

BILLING CODE 7590-01-P